SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than January 8, 2013. Individuals can obtain copies of the collection instruments by writing to the above email address.

1. Child Relationship Statement—20 CFR 404.355 & 404.731—0960-0116. To help determine a child's entitlement to Social Security benefits, SSA uses criteria under section 216(h)(3) of the Social Security Act (Act), deemed child provision. SSA may deem a child to an insured individual if: (1) The insured individual presents SSA with satisfactory evidence of parenthood and was living with or contributing to the child's support at certain specified times; or (2) the insured individual (a) acknowledged the child in writing; (b) was court decreed as the child's parent; or (c) was court ordered to support the child. To obtain this information, SSA uses Form SSA-2519, Child Relationship Statement. Respondents are people with knowledge of the relationship between certain individuals filing for Social Security benefits and their alleged biological children.

Type of Request: Revision of an OMB-approved information collection.

Modality of collection | Number of respondents | Frequency of response | Average burden per response (minutes) | Estimated total annual burden (hours)
SSA-2519 | 50,000 | 1 | 15 | 12,500

2. Pain Report-Child—20 CFR 404.1512 and 416.912—0960-0540. Before SSA can make a disability determination for a child, we require evidence from Supplemental Security Income (SSI) applicants or claimants to prove their disability. Form SSA-3371-BK provides disability interviewers, and SSI applicants or claimants in self-help situations, with a convenient way to record information claimants' pain or other symptoms. The State disability determination services adjudicators and administrative law judges then use the information from Form SSA-3371-BK to assess the effects of symptoms on function for purposes of determining disability under the Act. The respondents are applicants for, or claimants of, SSI payments.

Type of Request: Revision of an OMB-approved information collection.

Modality of collection | Number of respondents | Frequency of response | Average burden per response (minutes) | Estimated total annual burden (hours)
SSA-3371 | 250,000 | 1 | 15 | 62,500

3. Internet and Automated Telephone Request for Replacement Forms SSA-1099/SSA-1042S—20 CFR 401.45—0960-0583. Title II recipients use Forms SSA-1099 and SSA-1042S, Social Security Benefit Statement, to determine if their Social Security benefits are taxable and the amount they need to report to the Internal Revenue Service. In cases where the original forms are unavailable (e.g., lost, stolen, mutilated), an individual may use SSA's Internet request form or automated telephone application to request a replacement SSA-1099 and SSA-1042S. SSA uses the information from the Internet and automated telephone requests to verify the identity of the requestor and to provide replacement copies of the forms. The Internet and automated telephone options reduce requests to the National 800 Number Network (N8NN) and visits to local Social Security field offices. The respondents are title II recipients who wish to request a replacement SSA-1099 or SSA-1042S via the Internet and telephone.

Type of Request: Revision of an OMB-approved information collection.

Modality of completion | Number of respondents | Frequency of response | Average burden per response (minutes) | Estimated total annual burden (hours)
Internet Requests | 145,390 | 1 | 10 | 24,232
Automated Telephone Requests | 190,413 | 1 | 2 | 6,347
N8NN | 566,667 | 1 | 3 | 28,333
Calls to local field offices | 783,333 | 1 | 3 | 39,167
Other (program service centers) | 90,000 | 1 | 3 | 4,500
Totals | 1,775,803 |  |  | 102,579

4. Important Information About Your Appeal, Waiver Rights, and Repayment Options—20 CFR 404.502-521—0960-0779. When SSA accidentally overpays beneficiaries, the agency informs them of the following rights: (1) The right to reconsideration of the overpayment determination; (2) the right to request a waiver of recovery and the automatic scheduling of a personal conference if SSA cannot approve a request for waiver; and (3) the availability of a different rate of withholding when SSA proposes the full withholding rate. SSA uses Form SSA-3105, Important Information About Your Appeal, Waiver Rights, and Repayment Options, to explain these rights to overpaid individuals, and allow them to notify SSA of their decision(s) regarding these rights. The respondents are overpaid claimants requesting a waiver of recovery for the overpayment, reconsideration of the fact of the overpayment, or a lesser rate of withholding of the overpayment.

Type of Request: Extension of an OMB-approved information collection.

Modality of completion | Number of respondents | Frequency of response | Average burden per response (minutes) | Estimated total annual burden (hours)
SSA-3105 | 80,000 | 1 | 15 | 20,000

II. SSA submitted the information collection below to OMB for clearance. Your comments regarding the information collection would be most useful if OMB and SSA receive them 30 days from the date of this publication. To be sure we consider your comments, we must receive them no later than December 10, 2012. Individuals can obtain copies of the OMB clearance packages by writing to OR.Reports.Clearance@ssa.gov.

Vocational Rehabilitation Provider Claim—20 CFR 404.2108(b), 404.2117(c)(1)&(2), 404.2101(a)&(b), 404.2121(a), 416.2208(b), 416.2217(c)(1)&(2), 416.2201(a)&(b), 416.2221(a), 34 CFR 361—0960-0310.

State vocational rehabilitation (VR) agencies submit Form SSA-199 to SSA to obtain reimbursement of costs incurred for providing VR services. SSA requires state VR agencies to submit reimbursement claims for the following categories:

(1) Claiming reimbursement for VR services provided; (2) certifying adherence to cost containment policies and procedures; and (3) preparing causality statements.

The respondents mail the paper copy of the SSA-199 to SSA for consideration and approval of the claim for reimbursement of cost incurred for SSA beneficiaries. For claims certifying adherence to cost containment policies and procedures, or for preparing causality statements, State VR agencies submit written requests as stipulated in SSA's regulations within the Code of Federal Regulations. In most cases, SSA requires adherence to cost containment policies and procedures as well as causality statements prior to determining whether to reimburse the State VR agencies. SSA uses the information on the SSA-199, along with the written documentation, to determine whether or not, and how much, to pay the State VR agencies under SSA's VR program. Respondents are State VR agencies who offer vocational and employment services to Social Security and SSI recipients.

Type of Request: Revision of an OMB-approved information collection.

Modality of collection | Number of respondents | Frequency of response | Number of responses | Average burden per response (minutes) | Estimated total annual burden (hours)
a. Claiming Reimbursement on SSA-199—20 CFR 404.2108(b) & 416.2208(b) | 80 | 160 | (12,800) | 23 | 4,907
b. Certifying Adherence to Cost Containment Policy and Procedures—20 CFR 404.2117(c)(1)&(2), 416.2217(c)(1)&(2) & 34 CFR 361 | 80 | 1 | (80) | 60 | 80
c. Preparing Causality Statements—20 CFR 404.2121(a), 404.2101(a), 416.2201(a), & 416.2221(a) | 80 | 2.5 | (200) | 100 | 333
Totals | 80 |  | (13,080) |  | 5,320

Dated: November 5, 2012.
Faye Lipsky,
Reports Clearance Director, Social Security Administration.

[FR Doc. 2012-27358 Filed 11-8-12; 8:45 am]

BILLING CODE 4191-02-P